DEPARTMENT OF AGRICULTURE

Office of the Secretary

Commission on 21st Century Production Agriculture

AGENCY: Office of the Secretary, Department of Agriculture.

ACTION: Notice of meeting.

SUMMARY: The U.S. Department of Agriculture (USDA) has established the Commission on 21st Century Production Agriculture. In accordance with Section 10(a)(2) of the Federal Advisory Committee Act (FACA), notice is hereby given of a meeting in June of the Commission on 21st Century Production Agriculture. The purpose of the meeting on June 14-16, 2000 is a working session, which will be to address issues regarding agricultural policy initiatives to be included in the Commission report. The meeting is open to the public.

PLACE, DATE, AND TIME OF MEETING: This meeting will be held June 14, 2000 from 12-5 p.m. EST in Room 108-A, Whitten Building; June 15, 2000 from 9 a.m.-5 p.m. EST in Room 108-A, Whitten Building; June 16, 2000 from 9 a.m.-12 EST in Room 221-A, Whitten Building.

FOR FURTHER INFORMATION CONTACT: Mickey Paggi on (202-720-3139), Director, Commission on 21st Century Production Agriculture, Room 3702 South Building, 1400 Independence Avenue, SW, Washington, DC 20250-0524.

Dated: May 15, 2000.
Keith J. Collins,
Chief Economist.

[FR Doc. 00-12656 Filed 5-18-00; 8:45 am]

BILLING CODE 3410-01-M